FEDERAL RESERVE SYSTEM

Change in Bank Control Notices; Acquisitions of Shares of a Bank or Bank Holding Company

The notificants listed below have applied under the Change in Bank Control Act (12 U.S.C. 1817(j)) and 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 3, 2017.

A. Federal Reserve Bank of Chicago (Colette A. Fried, Assistant Vice President) 230 South LaSalle Street, Chicago, Illinois 60690-1414:

1. Robert David Becker, Cedar Rapids, Iowa, individually and as a member of a group acting in concert consisting of: Dianne Becker, Cedar Rapids, Iowa; Maya Becker, Cedar Rapids, Iowa; Robert David Becker, in his individual capacity and as trustee for The Harold M. Becker Irrevocable Children's Trust, Cedar Rapids, Iowa; The Harold M. Becker Irrevocable Children's Trust; Sherri A. Becker, Kansas City, Missouri; Linda Deaktor, Chatsworth, California; Alan Josephson, Omaha, Nebraska; Deborah B. Josephson, as trustee for the Deborah B. Josephson Revocable Trust, Omaha, Nebraska; the Deborah B. Josephson Revocable Trust; Lawrence B. Josephson, as trustee for the Lawrence B. Josephson Revocable Trust, Omaha, Nebraska; the Lawrence B. Josephson Revocable Trust; Melissa Josephson, Omaha, Nebraska; Eric Leibsohn, Paradise Valley, Arizona; Steven Leibsohn, Scottsdale, Arizona; Matthew Rose, Phoenix, Arizona; Thomas J. Rose, as trustee of The Rose Family Trust under the Anne D. Rose Revocable Trust, Phoenix, Arizona; and The Rose Family Trust under the Anne D. Rose Revocable Trust, to retain voting shares of Guaranty Bankshares, Ltd and thereby indirectly retain voting shares of Guaranty Bank and Trust Company, both of Cedar Rapids, Iowa.

Board of Governors of the Federal Reserve System, April 12, 2017.
Ann E. Misback,
Secretary of the Board.

[FR Doc. 2017-07737 Filed 4-17-17; 8:45 am]

BILLING CODE 6210-01-P